DEPARTMENT OF HEALTH AND HUMAN SERVICES

Administration for Community Living

Agency Information Collection Activities; Submission for OMB Review; Public Comment Request; National Beneficiary Survey of State Health Insurance Assistance Program (SHIP) OMB# 0985-0057

AGENCY: Administration for Community Living, Department of Health and Human Services (HHS).

ACTION: Notice.

SUMMARY: The Administration for Community Living (ACL) is announcing that the proposed collection of information listed above has been submitted to the Office of Management and Budget (OMB) for review and clearance as required under the Paperwork Reduction Act of 1995. This 30-Day notice collects comments on the information collection requirements related to the Proposed Revision and solicits comments on the information collection requirements related to the National Beneficiary Survey of State Health Insurance Assistance Program (SHIP) OMB# 0985-0057.

DATES: Submit written comments on the collection of information by July 24, 2020.

ADDRESSES: Submit electronic comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Sara Vogler, Administration for Community Living, Washington, DC 20201, 202-795-7461, Sara.Vogler@acl.hhs.gov.

SUPPLEMENTARY INFORMATION: In compliance with the Paperwork Reduction Act, ACL has submitted the following proposed information collection to OMB for review and clearance. The SHIP-SMP Survey of One-on-One Assistance is a survey of individuals who meet with team members from the State Health Insurance Assistance Program (SHIP) or the Senior Medicare Patrol (SMP). These services help Medicare beneficiaries understand their Medicare benefits and options. These services also increase the ability of beneficiaries to identify and report fraud, waste, and abuse within health care programs generally, and Medicare/Medicaid specifically.

The State Health Insurance Assistance Program (SHIP) was created under the Omnibus Budget Reconciliation Act of 1990. This section of the law authorized the Department of Health and Human Services (HHS) to make grants to states to establish and maintain health insurance advisory service programs for Medicare beneficiaries. Grant funds were made available to support information, counseling, and assistance activities related to Medicare, Medicaid, and other health insurance options. SHIP grantees provide free, in-depth, unbiased, one-on-one health insurance counseling and assistance to Medicare beneficiaries, their families, and caregivers. The Senior Medicare Patrol (SMP) program was authorized in 1997 under Titles II and IV of the Older Americans Act, the Omnibus Consolidated Appropriation Act of 1997 and the Health Insurance Portability and Accountability Act of 1996. The SMP mission is to empower and assist Medicare beneficiaries, their families, and caregivers, to prevent, detect, and report suspected healthcare fraud, errors, and abuse through outreach, counseling, and education.

SMP grantees support ACL's goals of promoting increased choice and greater independence among older adults and individuals with disabilities. SMP activities also serve to enhance the financial, emotional, physical, and mental well-being of older adults, thereby increasing their capacity to maintain security in retirement and make better financial and healthcare choices.

SMP team members provide one-on-one assistance, and when needed, serve as consumer advocates to resolve billing disputes/issues.

The SHIP-SMP Survey of One-on-One Assistance will gauge individuals' satisfaction with the services provided by SHIP and SMP team members.

This survey is a renewal of the existing “National Beneficiary Survey of State Health Insurance Assistance Program (SHIP)”, which received clearance on August 28, 2017, with ICR Reference Number 201702-0985-002 and OMB Control Number 0985-0057. That survey was conducted over a three-year period beginning on October 1, 2017, and concluded on March 30, 2020. To date, this survey has generated over 2500 responses, all of which were submitted voluntarily.

ACL requests renewal of the survey to continue the collection performed in Fiscal Years 2018, 2019, and 2020. Reports developed for FY18 and FY19 participants have provided an overall measure of satisfaction with SHIP's one-on-one assistance services and have provided insight into the relationship between inputs (information provided, time between initial contact and services received) and overall satisfaction. The renewed collection will survey recipients of both SHIP and SMP one-on-one assistance but will not increase the number of surveys collected.

The renewed survey will provide an annual collection at the national level, with an estimated collection of 800 responses per year. To generate a sample with a 95% confidence level at the national level 400 responses will be required from each program (n=2,000,000 SHIP one-on-one assistance sessions in 2018; n=275,000 SMP one-on-one assistance sessions in 2018).

ACL will draw a representative sample of customers who received assistance from each program by focusing only on non-redundant individuals (i.e., a random sample without replacement of individuals who receive SHIP and/or SMP one-on-one assistance).

The proposed data collection tools may be found on the ACL website for review at https://www.acl.gov/about-acl/public-input.

Estimated Program Burden: ACL estimates the burden associated with this collection of information as follows:

Respondent/data collection activity | Number of respondents | Responses per respondent | Hours per response | Annual burden hours
Survey, Stratified Random Sample | 800 | 1 | 6/60 | 80
Total: | 800 | 1 | 6/60 | 80

Dated: June 17, 2020.
Mary Lazare,
Principal Deputy Administrator.

[FR Doc. 2020-13578 Filed 6-23-20; 8:45 am]

BILLING CODE 4154-01-P